FEDERAL COMMUNICATIONS COMMISSION

47 CFR Part 76

[CS Docket No. 95-184; FCC 03-9]

RIN 3060-AG02

Telecommunications Services Inside Wiring

AGENCY: Federal Communications Commission.

ACTION: Final rule; announcement of effective date.

SUMMARY: The Federal Communications Commission received Office of Management and Budget (OMB) approval on April 23, 2003, for the revised public information collection, Inside Wiring, OMB Control Number 3060-0692. The Commission announces the effective date for revisions made in the rule concerning cable home run wiring published at 68 FR 13850 (March 21, 2003).

DATES: The amendments to 47 CFR 76.620, 76.802 and 76.804 published at 68 FR 13850, March 21, 2003 are effective, May 20, 2003.

SUPPLEMENTARY INFORMATION: The Federal Communications Commission released the First Order on Reconsideration and Second Report and Order; (“Order” and “2nd R&O”) CS 95-184, MM 92-260, FCC 03-9 on January 29, 2003. The document revises rules the Commission adopted related to cable home run wiring and resolves issues raised by the Commission regarding exclusive and perpetual contracts. The Commission gave notice in the Federal Register (68 FR 13850, March 21, 2003) that the revisions to its rules made pursuant to the Order and 2nd R&O would become effective on May 20, 2003, except for §§ 76.620, 76.802 and 76.804. These sections contained information collection requirements that had not been approved by OMB. The Commission's notice stated that it would publish a document in the Federal Register announcing the effective date for the modifications to these sections. The Commission hereby gives notice that it received OMB approval, OMB Control No. 3060-0692, for the revised information collection in the Order and 2nd R&O on April 23, 2003. The Commission therefore gives notice that the effective date for revisions to §§ 76.620, 76.802 and 76.804 made in the Order and 2nd R&O is May 20, 2003.

Pursuant to the Paperwork Reduction Act of 1995, Pub. L. 104-13, an agency may not conduct or sponsor a collection of information unless it displays a currently valid control number. Notwithstanding any other provisions of law, no person shall be subject to any penalty for failing to comply with a collection of information subject to the Paperwork Reduction Act (PRA) that does not display a valid control number. For questions regarding the effective date for revisions to the above-named sections contact Cheryl Kornegay, Media Bureau, Policy and Rules Division at (202) 418-7200 or via the Internet at cheryl.kornegay@fcc.gov. Questions concerning this revised information collection should be directed to Leslie F. Smith, Federal Communications Commission, (202) 418-0217 or via the Internet at Leslie.Smith@fcc.gov.

Federal Communications Commission.
Marlene H. Dortch,
Secretary.

[FR Doc. 03-25968 Filed 10-14-03; 8:45 am]

BILLING CODE 6712-01-P